DEPARTMENT OF COMMERCE

International Trade Administration

[C-570-189, C-557-833]

Float Glass Products From the People's Republic of China and Malaysia: Initiation of Countervailing Duty Investigations

AGENCY: Enforcement and Compliance, International Trade Administration, Department of Commerce.

DATES: Applicable December 31, 2024.

FOR FURTHER INFORMATION CONTACT: Nathan James (the People's Republic of China (China)), Mira Warrier, or Benjamin Nathan (Malaysia), AD/CVD Operations, Enforcement and Compliance, International Trade Administration, U.S. Department of Commerce, 1401 Constitution Avenue NW, Washington, DC 20230; telephone: (202) 482-5305, (202) 482-8031, and (202) 482-3834, respectively.

SUPPLEMENTARY INFORMATION:

The Petitions

On November 21, 2024, the U.S. Department of Commerce (Commerce) received countervailing duty (CVD) petitions concerning imports of float glass products from China and Malaysia filed in proper form on behalf of Vitro Flat Glass, LLC and Vitro Meadville Flat Glass, LLC (the petitioner), a U.S. producer of float glass products.¹ The CVD Petitions were accompanied by antidumping duty (AD) petitions concerning imports of float glass products from China and Malaysia.²

¹ See Petitioner's Letter, “Petitions for the Imposition of Antidumping and Countervailing Duties,” dated November 21, 2024 (Petitions).

² Id.

Between November 25 and December 23, 2024, Commerce requested supplemental information pertaining to certain aspects of the Petitions.³ Between December 2 and 26, 2024, the petitioner filed timely responses to these requests for additional information.⁴

³ See Commerce's Letters, “Supplemental Questions,” dated November 26, 2024 (First General Issues Questionnaire); see also Country-Specific CVD Supplemental Questionnaires: China Supplemental and Malaysia Supplemental, dated November 26, 2024; Memorandum, “Phone Call with Counsel to the Petitioner,” dated December 4, 2024 (December 4, 2024, Memorandum); Memorandum, “Phone Call with Counsel to the Petitioner,” dated December 9, 2024 (December 9, 2024, Memorandum); and Memorandum, “Phone Call with Counsel to the Petitioner,” dated December 23, 2024 (December 23, 2024, Memorandum).

⁴ See Petitioner's Letters, “Amendments to Antidumping and Countervailing Duty Petitions; Volume SI—General Issues and Injury,” dated December 2, 2024 (First General Issues Supplement), “Amendments to Antidumping and Countervailing Duty Petitions; Volume SS—Second Supplemental Responses,” dated December 6, 2024 (Second General Issues Supplement), and “Amendments to Antidumping and Countervailing Duty Petitions; Volume SSS—Third Supplemental Responses,” dated December 10, 2024 (Third General Issues Supplement); see also Country-Specific CVD Supplemental Responses: China CVD Supplement and India CVD Supplement, dated December 2, 2024 and December 3, 2024; and Petitioner's Letter, “Amendments to Antidumping and Countervailing Duty Petitions—Exhibit SSSS-1,” dated December 26, 2024 (Revised Scope).

On December 11, 2024, Commerce extended the initiation deadline by 20 days to poll the domestic industry in accordance with section 702(c)(4)(D) of the Tariff Act of 1930, as amended (the Act), because it was “not clear from the Petitions whether the industry support criteria have been met. . . .” ⁵

⁵ See Notice of Extension of the Deadline for Determining the Adequacy of the Antidumping and Countervailing Duty Petitions: Float Glass Products from the People's Republic of China and Malaysia, 89 FR 102113, 102114 (December 17, 2024) (Initiation Extension Notice).

In accordance with section 702(b)(1) of the Act, the petitioner alleges that the Government of China (GOC) and the Government of Malaysia (GOM) (collectively, Governments) are providing countervailable subsidies, within the meaning of sections 701 and 771(5) of the Act, to producers of float glass products from China and Malaysia and that such imports are materially injuring, or threatening material injury to, the domestic industry producing float glass products in the United States. Consistent with section 702(b)(1) of the Act and 19 CFR 351.202(b), for those alleged programs on which we are initiating CVD investigations, the Petitions were accompanied by information reasonably available to the petitioner supporting its allegations.

Commerce finds that the petitioner filed the Petitions on behalf of the domestic industry because the petitioner is an interested party, as defined in section 771(9)(C) of the Act. Commerce also finds that the petitioner demonstrated sufficient industry support with respect to the initiation of the requested CVD investigations.⁶

⁶ See section on “Determination of Industry Support for the Petitions,” infra.

Periods of Investigation

Because the Petitions were filed on November 21, 2024, the periods of investigation for the China and Malaysia CVD investigations are January 1, 2023, through December 31, 2023.⁷

⁷ See 19 CFR 351.204(b)(2).

Scope of the Investigations

The products covered by these investigations are float glass products from China and Malaysia. For a full description of the scope of these investigations, see the appendix to this notice.

Comments on the Scope of the Investigations

Between November 25 and December 31, 2024, Commerce requested information and clarification from the petitioner regarding the proposed scope to ensure that the scope language in the Petitions is an accurate reflection of the products for which the domestic industry is seeking relief.⁸ Between December 2 and 31, 2024, the petitioner provided clarifications and revised the scope.⁹ The description of merchandise covered by these investigations, as described in the appendix to this notice, reflects these clarifications.

⁸ See First General Issues Questionnaire; see also December 4, 2024, Memorandum; December 9, 2024, Memorandum; and December 23, 2024, Memorandum; and Memorandum, “Phone Call with Counsel to the Petitioner,” dated December 31, 2024 (December 31, 2024, Memorandum).

⁹ See First General Issues Supplement at SI-1 through SI-5 and Exhibits SI-1 and SI-2; see also Second General Issues Supplement at SS-1 through SS-3 and Exhibits SS-1 and SS-2; Third General Issues Supplement at SSS-1 through SSS-7 and Exhibit SSS-1; Revised Scope at Exhibit SSSS-1, and December 31, 2024, Memorandum.

As discussed in the Preamble to Commerce's regulations, we are setting aside a period for interested parties to raise issues regarding product coverage (i.e., scope).¹⁰ Commerce will consider all comments received from interested parties and, if necessary, will consult with interested parties prior to the issuance of the preliminary determinations. If scope comments include factual information, all such factual information should be limited to public information.¹¹ To facilitate preparation of its questionnaires, Commerce requests that scope comments be submitted by 5:00 p.m. Eastern Time (ET) on January 21, 2025, which is the next business day after 20 calendar days from the signature date of this notice.¹² Any rebuttal comments, which may include factual information, must be filed by 5:00 p.m. ET on January 31, 2025, which is 10 calendar days from the initial comment deadline.

¹⁰ See Antidumping Duties; Countervailing Duties; Final Rule, 62 FR 27296, 27323 (May 19, 1997) (Preamble).

¹¹ See 19 CFR 351.102(b)(21) (defining “factual information”).

¹² See 19 CFR 351.303(b)(1). The deadline for scope comments falls on January 20, 2025, which is a Federal holiday. In accordance with 19 CFR 351.303(b)(1), Commerce will accept comments filed by 5:00 p.m. ET on January 21, 2025 (“For both electronically filed and manually filed documents, if the applicable due date falls on a non-business day, the Secretary will accept documents that are filed on the next business day.”).

Commerce requests that any factual information that parties consider relevant to the scope of the investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹³ An electronically filed document must be received successfully in its entirety by the time and date it is due.

¹³ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the Governments of the receipt of the Petitions and provided an opportunity for consultations with respect to the Petitions.¹⁴ Commerce held consultations with the GOM on December 10, 2024.¹⁵ The GOC ultimately did not request consultations.¹⁶

¹⁴ See Commerce's Letters, “Invitation for Consultation to Discuss the Countervailing Duty Petition,” dated November 22, 2024.

¹⁵ See Memorandum, “Consultations with the Government of Malaysia,” dated December 10, 2024; see also GOM's Letter, “Government of Malaysia Statements for Consultations,” dated December 10, 2024.

¹⁶ See Memorandum, “Change in Request for Consultations,” dated December 4, 2024; see also GOC's Letter, “Comments on Countervailing Duty Petition on Float Glass from the People's Republic of China (C-570-189),” dated December 9, 2024.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁷ they do so for different purposes and pursuant to a separate and distinct authority. In addition, Commerce's determination is subject to limitations of time and information. Although this may result in different definitions of the like product, such differences do not render the decision of either agency contrary to law.¹⁸

¹⁷ See section 771(10) of the Act.

¹⁸ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁹ Based on our analysis of the information submitted on the record, we have defined a single domestic like product consisting of float glass products, as defined in the scope, and regardless of country of origin of the primary float glass,²⁰ and we have analyzed industry support in terms of that domestic like product.²¹ While Commerce's definition of the domestic like product is broader than the petitioner's definition, we find that expansion of the domestic like product definition is appropriate in this case in order to ensure a fair assessment of the domestic industry for purposes of measuring industry support. This is consistent with Commerce's broad discretion to define and clarify the scope of a CVD investigation in a manner that reflects the intent of the Petitions.²²

¹⁹ For a discussion of the domestic like product analysis as applied to these cases and information regarding industry support, see Checklists, “Countervailing Duty Investigation Initiation Checklists: Float Glass Products from the People's Republic of China and Malaysia,” dated concurrently with, and hereby adopted by, this notice (Country-Specific CVD Initiation Checklists), at Attachment II, Analysis of Industry Support for the Antidumping and Countervailing Duty Petitions Covering Float Glass Products from the People's Republic of China and Malaysia (Attachment II). These checklists are on file electronically via ACCESS.

²⁰ Primary float glass, as defined in the scope, is soda-lime-silica glass that is manufactured by floating a continuous strip of molten glass over a smooth bath of tin (or another liquid metal with a density greater than molten glass), cooling the glass in an annealing lehr, and cutting it to appropriate dimensions (i.e., an actual thickness of at least 2.0 millimeters (mm) (0.0787 inches) and an actual surface area of at least 0.37 square meters (4.0 square feet)).

²¹ See Attachment II of the Country-Specific CVD Initiation Checklists.

²² See, e.g., Fujitsu, 36 F. Supp. 2d 394 (citing Kern-Liebers USA, Inc. v. United States, 881 F. Supp. 618, 621 (CIT 1995) (citation omitted)); and Initiation of Antidumping Duty Investigations: Spring Table Grapes from Chile and Mexico, 66 FR 26831 (May 15, 2001).

On December 11, 2024, Commerce extended the initiation deadline by 20 days to poll the industry in accordance with section 702(c)(4)(D) of the Act, because it was “not clear from the Petitions whether the industry support criteria have been met. . . .” ²³ On December 13, 2024, we issued polling questionnaires to all known producers identified in the Petitions.²⁴ We requested that the companies complete the polling questionnaire and certify their responses by the due date specified in the cover letter to the questionnaire.²⁵ The petitioner provided comments on the polling questionnaire responses on December 26, 2024.²⁶ Xinyi ²⁷ provided rebuttal comments on December 30, 2024.²⁸

²³ See Initiation Extension Notice, 89 FR at 102114.

²⁴ See Commerce's Letter, “Polling Questionnaire,” dated December 13, 2024.

²⁵ Id.

²⁶ See Petitioner's Letter, “Industry Support Comments from Petitioner,” dated December 26, 2024.

²⁷ Xinyi Energy Smart (Malaysia) Sdn Bhd (Xinyi) is a Malaysian producer/exporter of float glass products. See Xinyi's Letter, “Entry of Appearance,” dated December 3, 2024.

²⁸ See Xinyi's Letter, “Xinyi's Rebuttal Comments on Responses to Department's Polling Questionnaire,” dated December 30, 2024.

Our analysis of the data we received in the polling questionnaire responses indicates that the domestic producers and workers who support the Petitions account for at least 25 percent of the total production of the domestic like product and more than 50 percent of the production of the domestic like product produced by that portion of the industry expressing support for, or opposition to, the Petitions.²⁹ Accordingly, Commerce determines that the industry support requirements of section 702(c)(4)(A) of the Act have been met and that the Petitions were filed on behalf of the domestic industry within the meaning of section 702(b)(1) of the Act.³⁰

²⁹ See Attachment II of the Country-Specific CVD Initiation Checklists.

³⁰ Id.

Injury Test

Because China and Malaysia are “Subsidies Agreement Countries” within the meaning of section 701(b) of the Act, section 701(a)(2) of the Act applies to these investigations. Accordingly, the ITC must determine whether imports of the subject merchandise from China and/or Malaysia materially injure, or threaten material injury to, a U.S. industry.

Allegations and Evidence of Material Injury and Causation

The petitioner alleges that imports of the subject merchandise are benefiting from countervailable subsidies and that such imports are causing, or threaten to cause, material injury to the U.S. industry producing the domestic like product. In addition, the petitioner alleges that subject imports from China and Malaysia exceed the negligibility threshold provided for under section 771(24)(A) of the Act.³¹

³¹ For further information regarding negligibility and the injury allegation, see Country-Specific CVD Initiation Checklists at Attachment III, Analysis of Allegations and Evidence of Material Injury and Causation for the Antidumping and Countervailing Duty Petitions Covering Float Glass Products from the People's Republic of China and Malaysia (Attachment III).

The petitioner contends that the industry's injured condition is illustrated by the significant and increasing volume of subject imports; reduced market share; underselling and price depression and/or suppression; lost sales and revenues; and decline in the domestic industry's production, capacity utilization, sales, employment, and financial performance.³² We assessed the allegations and supporting evidence regarding material injury, threat of material injury, causation, cumulation, as well as negligibility, and we have determined that these allegations are properly supported by adequate evidence and meet the statutory requirements for initiation.³³

³² See Attachment III of the Country-Specific CVD Initiation Checklists.

³³ Id.

Initiation of CVD Investigations

Based upon the examination of the Petitions and supplemental responses, we find that they meet the requirements of section 702 of the Act. Therefore, we are initiating CVD investigations to determine whether imports of float glass products from China and Malaysia benefit from countervailable subsidies conferred by the GOC and GOM, respectively. In accordance with section 703(b)(1) of the Act and 19 CFR 351.205(b)(1), unless postponed, we will make our preliminary determinations no later than 65 days after the date of these initiations.

China

Based on our review of the Petitions, we find that there is sufficient information to initiate a CVD investigation on 20 of the 20 programs alleged by the petitioner. For a full discussion of the basis for our decision to initiate on each program, see the China CVD Initiation Checklist. A public version of the initiation checklist for this investigation is available on ACCESS.

Malaysia

Based on our review of the Petitions, we find that there is sufficient information to initiate a CVD investigation on 15 of the 15 programs alleged by the petitioner. For a full discussion of the basis for our decision to initiate on each program, see the Malaysia CVD Initiation Checklist. A public version of the initiation checklist for this investigation is available on ACCESS.

Respondent Selection

In the Petitions, the petitioner identified eight companies in China and four companies in Malaysia as producers/exporters of float glass products.³⁴ Commerce intends to follow its standard practice in CVD investigations and calculate company-specific subsidy rates in these investigations. In the event that Commerce determines that the number of companies is large and it cannot individually examine each company based on Commerce's resources, Commerce intends to select mandatory respondents in CVD investigations using U.S. Customs and Border Protection (CBP) entry data for U.S. imports under the appropriate Harmonized Tariff Schedule of the United States (HTSUS) subheading(s) listed in the “Scope of the Investigations” in the appendix to this notice.

³⁴ See Petitions at Volume I (pages I-17 through I-20); see also Third General Issues Supplement at SSS-1.

On December 30, 2024, Commerce released the CBP data for imports of float glass products from China and Malaysia under administrative protective order (APO) and indicated that interested parties wishing to comment regarding the CBP data and/or respondent selection must do so within three business days of the publication date of the notice of initiation of these investigations.³⁵ Comments must be filed electronically using ACCESS. An electronically filed document must be received successfully, in its entirety, by ACCESS no later than 5:00 p.m. ET on the date noted above. Commerce will not accept rebuttal comments regarding the CBP data or respondent selection.

³⁵ See Memoranda, “Release of U.S. Customs and Border Protection Entry Data,” dated December 30, 2024.

Interested parties must submit applications for disclosure under APO in accordance with 19 CFR 351.305(b). Instructions for filing such applications may be found on Commerce's website at https://www.trade.gov/administrative-protective-orders.

Distribution of Copies of the Petitions

In accordance with section 702(b)(4)(A) of the Act and 19 CFR 351.202(f), a copy of the public version of the Petitions has been provided to the GOC and GOM via ACCESS. To the extent practicable, we will attempt to provide a copy of the public version of the Petitions to each exporter named in the Petitions, as provided under 19 CFR 351.203(c)(2).

ITC Notification

Commerce will notify the ITC of its initiation, as required by section 702(d) of the Act.

Preliminary Determinations by the ITC

The ITC will preliminarily determine, within 25 days after the date on which the ITC receives notice from Commerce of initiation of the investigation, whether there is a reasonable indication that imports of float glass products from China and/or Malaysia are materially injuring, or threatening material injury to, a U.S. industry.³⁶ A negative ITC determination for any country will result in the investigation being terminated with respect to that country.³⁷ Otherwise, these CVD investigations will proceed according to statutory and regulatory time limits.

³⁶ See section 703(a)(1) of the Act.

³⁷ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁸ and, if the information is submitted to rebut, clarify, or correct factual information already on the record, to provide an explanation identifying the information already on the record that the factual information seeks to rebut, clarify, or correct.³⁹ Time limits for the submission of factual information are addressed in 19 CFR 351.301, which provides specific time limits based on the type of factual information being submitted. Interested parties should review the regulations prior to submitting factual information in these investigations.

³⁸ See 19 CFR 351.301(b).

³⁹ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁰ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁴¹

⁴⁰ See 19 CFR 351.302.

⁴¹ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁴² Parties must use the certification formats provided in 19 CFR 351.303(g).⁴³ Commerce intends to reject factual submissions if the submitting party does not comply with the applicable certification requirements.

⁴² See section 782(b) of the Act.

⁴³ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance). Note that Commerce has amended certain of its requirements pertaining to the service of documents in 19 CFR 351.303(f).⁴⁴

⁴⁴ See Administrative Protective Order, Service, and Other Procedures in Antidumping and Countervailing Duty Proceedings, 88 FR 67069 (September 29, 2023).

This notice is issued and published pursuant to sections 702 and 777(i) of the Act, and 19 CFR 351.203(c).

Dated: December 31, 2024.
Abdelali Elouaradia,
Deputy Assistant Secretary for Enforcement and Compliance.

Appendix

Scope of the Investigations

The scope of these investigations covers float glass products (FGP), which are articles of soda-lime-silica glass that are manufactured by floating a continuous strip of molten glass over a smooth bath of tin (or another liquid metal with a density greater than molten glass), cooling the glass in an annealing lehr, and cutting it to appropriate dimensions. For purposes of the investigations, float glass products have an actual thickness of at least 2.0 mm (0.0787 inches) and an actual surface area of at least 0.37 square meters (4.0 square feet).

The country of origin of each float glass product is determined by the location where the soda-lime-silica glass is first manufactured by floating a continuous strip of molten glass over a smooth bath of tin and cooling the glass in an annealing lehr, regardless of the location of any downstream finishing or fabrication operations.

Prior to being subjected to further treatment, finishing, or fabrication, float glass products meet the requirements of Type I under ASTM-C1036 of the American Society for Testing and Materials (ASTM).

Float glass products may be clear, stained, tinted, or coated with one or more materials. Examples of coated float glass products include Low-E architectural glass (i.e., glass with a low emissivity coating to limit the penetration of radiant heat energy) and frameless mirrors (i.e., flat glass with a silver, aluminum, or other reflective layer) such as mirror stock sheet.

Float glass products may be annealed, chemically strengthened, heat strengthened, or tempered to achieve a desired surface compression, pursuant to ASTM-C1048, ASTM-C1422/C1422M, or other similar specifications.

Float glass products include tub and shower enclosures (i.e., doors and panels) made of tempered glass, which may be sold with attached or unattached hardware. In such cases, the scope covers only the tempered glass, to the exclusion of any non-glass hardware.

The only float glass product assemblies included within the scope are: (1) articles consisting of two of more sheets of float glass that are bonded together using a polymer interlayer (i.e., laminated glass); (2) insulating glass units (IGUs), which consist of two or more sheets of float glass separated by a spacer material and hermetically sealed together at the edge in order to create a thermal barrier using air or one or more gases; and (3) LED mirrors (i.e., float glass mirrors with one or more light-emitting diodes integrated with the mirror, as well as framed float glass mirrors with one or more light-emitting diodes integrated with the mirror or the mirror frame, but without other electronic functionality).

Float glass products covered by the scope may meet one or more of the ASTM-C162, ASTM-C1036, ASTM-C1048, ASTM-C1172, ASTM-C1349, ASTM-C1376, ASTM-C1422/C1422M, ASTM-C1464, ASTM-C1503, ASTM-C1651, ASTM-E1300, and ASTM-E2190 specifications, definitions, and/or standards.

Float glass products may be further worked, including, but not limited to, operations such as: cutting; beveling; edging; notching; drilling; etching; bending; curving; chipping; embossing; engraving; surface grinding; or polishing; and sandblasting (i.e., using high velocity air to stream abrasive particles and thereby impart a frosted aesthetic to the glass surface). A float glass product which undergoes further work remains within the scope so long as the soda-lime-silica glass originally satisfied the requirements of ASTM-C1036 Type I and was first manufactured in a subject country, regardless of where it is further worked.

Excluded from the scope are: (1) wired glass (i.e., glass with a layer of wire mesh embedded within); (2) patterned flat glass (i.e., rolled glass with a pattern impressed on one or both sides) meeting the requirements of Type II under ASTM-C1036, including greenhouse glass and patterned solar glass (i.e., photovoltaic glass with a textured surface); (3) safety glazing materials for vehicles certified to American National Standards Institute (ANSI) Standard Z26.1; (4) vacuum insulating glass (VIG) units, which consist of two or more sheets of float glass separated by a spacer material, with at least one hermetically sealed compartment that uses a gas-free vacuum as a thermal barrier; (5) framed mirrors without any LEDs integrated with the mirror or the mirror frame; (6) unframed “over-the-door” mirrors that are ready for use as imported without undergoing after importation any processing, finishing, or fabrication; and (7) heat-strengthened washing machine lid glass with an actual surface area less than 6.0 square feet (0.56 square meters).

Also excluded from the scope of the investigations are: (1) soda-lime-silica glass containing less than 0.01 percent iron oxide by weight, annealed with a surface compression less than 3,500 pounds per square inch (PSI), having a transparent conductive oxide base coating (e.g., tin oxide), and with an actual thickness less than or equal to 4.0 mm (0.1575 inches) (i.e., “coated solar glass”); and (2) heat treated soda-lime-silica glass with a surface compression between 3,500 and 10,000 PSI, containing two or more drilled holes, and having an actual thickness less than 2.5 mm (0.0984 inches) (i.e., “clear back solar glass”). Solar glass products (also known as photovoltaic glass) are designed to facilitate the conversion of solar energy into electricity.

Also excluded from the scope of the investigations are any products already covered by the scope of any extant antidumping and/or countervailing duty orders, including Aluminum Extrusions from the People's Republic of China: Antidumping Duty Order, 76 FR 30650 (May 26, 2011), and Aluminum Extrusions from the People's Republic of China: Countervailing Duty Order, 76 FR 30653 (May 26, 2011).

The products subject to the investigations are currently classifiable under subheadings 7005.10.8000, 7005.21.1010, 7005.21.1030, 7005.21.2000, 7005.29.1810, 7005.29.1850, 7005.29.2500, 7007.29.0000, 7008.00.0000, 7009.91.5010, 7009.91.5095, and 7009.92.5010 of the Harmonized Tariff Schedule of the United States (HTSUS). Products subject to the investigations may also enter under HTSUS subheadings 7006.00.4010, 7006.00.4050, and 7007.19.0000. Although the HTSUS subheadings are provided for convenience and customs purposes, the written description of the scope of the investigations is dispositive.

[FR Doc. 2025-00187 Filed 1-7-25; 8:45 am]

BILLING CODE 3510-DS-P